FEDERAL ELECTION COMMISSION

Sunshine Act Meeting

Date and Time: Tuesday, February 3, 2004 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

* * * * *

Date and Time: Thursday, February 5, 2004, 2: p.m.

Place: 999 E Street, NW., Washington, DC (Ninth Floor)

Status: This meeting will be open to the public.

Items To Be Discussed: Correction and Approval of Minutes.

Draft Advisory Opinion 2003-37: Americans for a Better Country by Keith A. Davis, Treasurer.

Draft Advisory Opinion 2003-38: United States Representative Eliot Engel by counsel, Cassandra Lentchner.

Draft Advisory Opinion 2003-39: Credit Union National Association by counsel, Jan Witold Baran and D. Mark Renaud.

Draft Advisory Opinion 2003-40: U.S. Navy Veterans' Good Government Fund by Bill Meyers, Treasurer.

Routine Administrative Matters.

Person to contact for information: Robert W. Biersack, Acting Press Officer, Telephone: (202) 694-1220.

Mary W. Dove,
Secretary of the Commission.

[FR Doc. 04-1964 Filed 1-27-04; 12:25 pm]

BILLING CODE 6715-01-M